FEDERAL COMMUNICATIONS COMMISSION

[WC Docket No. 06-122; DA 13-1700]

Wireline Competition Bureau Seeks Comment on Proposed Sample Reseller Certification Language for FCC Form 499-A Instructions

AGENCY: Federal Communications Commission.

ACTION: Notice.

SUMMARY: In this document, the Federal Communications Commission's Wireline Competition Bureau (Bureau) seeks comment on a proposal filed by a group of 8 industry participants (available at http://appsint.fcc.gov/ecfs/document/view?id=7520933957) regarding revisions to sample reseller certification language and accompanying sections of the FCC Form 499-A instructions. In the 2012 Wholesaler-Reseller Clarification Order, (FCC 12-134), the Commission directed the Bureau to revise the sample language to reflect the clarifications provided in that order, and allowed contributors to rely on existing sample language through December 31, 2013. The Bureau seeks comment on whether it should include the industry participants' proposed revisions in the 2014 FCC Form 499-A instructions.

DATES: Comments are due on or before September 6, 2013 and reply comments are due on September 13, 2013.

ADDRESSES: You may submit comments, identified by WC Docket No. 06-122; DA 13-1700, by any of the following methods:

• Federal eRulemaking Portal: http://www.regulations.gov. Follow the instructions for submitting comments.

• Federal Communications Commission's Web site: http://fjallfoss.fcc.gov/ecfs2/. Follow the instructions for submitting comments.

• People with Disabilities: Contact the FCC to request reasonable accommodations (accessible format documents, sign language interpreters, CART, etc.) by email: FCC504@fcc.gov or phone: (202) 418-0530 or TTY: (202) 418-0432.

For detailed instructions for submitting comments and additional information on the rulemaking process, see the SUPPLEMENTARY INFORMATION section of this document.

FOR FURTHER INFORMATION CONTACT: Carol Pomponio, Wireline Competition Bureau, (202) 418-7400 or TTY: (202) 418-0484.

SUPPLEMENTARY INFORMATION: This is a synopsis of the Wireline Competition Bureau's Public Notice in WC Docket No. 06-122; DA 13-1700, released August 2, 2013. The complete text of this document is available for inspection and copying during normal business hours in the FCC Reference Information Center, Portals II, 445 12th Street SW., Room CY-A257, Washington, DC 20554. The document may also be purchased from the Commission's duplicating contractor, Best Copy and Printing, Inc. (BCPI), 445 12th Street SW., Room CY-B402, Washington, DC 20554, telephone (800) 378-3160 or (202) 863-2893, facsimile (202) 863-2898, or via the Internet at http://www.bcpiweb.com. It is also available on the Commission's Web site at http://www.fcc.gov.

Pursuant to sections 1.415 and 1.419 of the Commission's rules, interested parties may file comments on or before September 6, 2013 and reply comments on or before September 13, 2013. All pleadings are to reference WC Docket 06-122. Comments may be filed using the Commission's Electronic Comment Filing System (ECFS) or by filing paper copies. See Electronic Filing of Documents in Rulemaking Proceedings, 63 FR 24121, May 1, 1998.

• Electronic Filers: Comments may be filed electronically using the Internet by accessing the ECFS: http://fjallfoss.fcc.gov/ecfs2/.

• Paper Filers: Parties who choose to file by paper must file an original and one copy of each filing. If more than one docket or rulemaking number appears in the caption of this proceeding, filers must submit two additional copies for each additional docket or rulemaking number. Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9300 East Hampton Drive, Capitol Heights, MD 20743.

• U.S. Postal Service first-class, Express, and Priority mail must be addressed to 445 12th Street SW., Washington DC 20554.

• People with Disabilities: To request materials in accessible formats for people with disabilities (braille, large print, electronic files, audio format), send an email to fcc504@fcc.gov or call the Consumer & Governmental Affairs Bureau at 202-418-0530 (voice), 202-418-0432 (tty).

Additional Copies. In addition, we request that you send one copy of each pleading to each of the following:

Carol Pomponio, Telecommunications Access Policy Division, Wireline Competition Bureau, 445 12th Street SW., Room 5-A360, Washington, DC 20554; email: Carol.Pomponio@fcc.gov; and

Charles Tyler, Telecommunications Access Policy Division, Wireline Competition Bureau, 445 12th Street, SW., Room 5-A452, Washington, DC 20554; email: Charles.Tyler@fcc.gov.

The Bureau seeks comment on a proposal filed by eight industry participants for revisions to sample reseller certification language and accompanying sections of the FCC Form 499-A instructions, available at http://appsint.fcc.gov/ecfs/document/view?id=7520933957. In the 2012 Wholesaler-Reseller Clarification Order, (FCC 12-134), 27 FCC Rcd 13780, 13798, para. 41, the Commission directed the Bureau to revise the sample language to reflect the clarifications provided in that order, and allowed contributors to rely on existing sample language through December 31, 2013. The Bureau seeks comment on whether it should include the industry participants' revisions in the 2014 FCC Form 499-A instructions.

Ex Parte Rules. The proceeding this Notice initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

For further information, please contact Carol Pomponio, Telecommunications Access Policy Division, Wireline Competition Bureau at (202) 418-7400 or TTY (202) 418-0484, or Carol.Pomponio@fcc.gov.

Federal Communications Commission.
Kimberly Scardino,
Chief, Telecommunications Access Policy Division, Wireline Competition Bureau.

[FR Doc. 2013-20158 Filed 8-16-13; 8:45 am]

BILLING CODE 6712-01-P